FEDERAL COMMUNICATIONS COMMISSION

Notice of Public Information Collection(s) Being Reviewed by the Federal Communications Commission for Extension Under Delegated Authority

March 21, 2006.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including ether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 30, 2006. If you anticipate that you will be submitting comments, but find it difficult to do so within the period of time allowed by this notice, you should advise the contact listed below as soon as possible.

ADDRESSES: You may submit your all Paperwork Reduction Act (PRA) comments by e-mail or U.S. postal mail. To submit your comments by e-mail send them to PRA@fcc.gov. To submit your comments by U.S. mail, mark them to the attention of Cathy Williams, Federal Communications Commission, Room 1-C823, 445 12th Street, SW., Washington, DC 20554.

FOR FURTHER INFORMATION CONTACT: For additional information about the information collection(s) send an e-mail to PRA@fcc.gov or contact Cathy Williams at (202) 418-2918.

SUPPLEMENTARY INFORMATION: OMB Control Number: 3060-0627.

Title: Application for AM Broadcast Station License.

Form Number: FCC Form 302-AM.

Type of Review: Extension of a currently approved collection.

Respondents: Business or other for-profit entities; Not-for-profit institutions.

Number of Respondents: 380.

Estimated Time per Response: 4-20 hours.

Frequency of Response: On occasion reporting requirement.

Total Annual Burden: 2,800 hours.

Total Annual Cost: $10,074.00.

Privacy Impact Assessment: No impact(s).

Needs and Uses: Licenses and permittees of AM broadcast stations are required to file FCC Form 302-AM to obtain a new or modified station license, and/or to notify the Commission of certain changes in the licensed facilities of these stations. Additionally, when changes are made to an AM station that alter the resistance of the antenna system, a licensee must initiate a determination of the operating power by the direct method. The results are reported to the Commission using FCC Form 302-AM.

On October 22, 1998, the Commission adopted a Report and Order in MM Docket Nos. 94-43 and 94-149. Among other things, this Report and Order substantially revised the FCC Form 302-AM to facilitate electronic filing by replacing narrative exhibits with the use of certifications and an engineering technical box. The Commission also removed and narrowed overly burdensome questions. These changes reduced the applicant's filing burdens in the preparation and submission of exhibits in support of applications. In addition, these changes streamlined the Commission's processing of FCC 302-AM applications. The Commission also adopted a formal program of pre- and post-application grant random audits to preserve the integrity of our streamlined application process. The data collected is used by FCC staff to confirm that the station has been built to the terms specified in the outstanding construction permit, and to update FCC station files. Data is then extracted from FCC 302-AM for inclusion in the subsequent license to operate the station.

Federal Communications Commission.
Marlene H. Dortch,
Secretary.

[FR Doc. 06-2924 Filed 3-28-06; 8:45 am]

BILLING CODE 6712-10-M